DEPARTMENT OF TRANSPORTATION

Federal Aviation Administration

RTCA Special Committee 188: Minimum Aviation System Performance Standards for High Frequency Data Link

AGENCY: Federal Aviation Administration (FAA), DOT.

ACTION: Notice of RTCA Special Committee 188 meeting.

SUMMARY: The FAA is issuing this notice to advise the public of a meeting of RTCA Special Committee 188: Minimum Aviation System Performance Standards for High Frequency Data Link.

DATES: The meeting will be held July 10, 2001 starting at 1 pm.

ADDRESSES: The meeting will be held at RTCA, 1140 Connecticut Avenue, NW., Suite 1020, Washington, DC 20036.

FOR FURTHER INFORMATION CONTACT: RTCA Secretariat, 1140 Connecticut Avenue, NW., Washington, DC, 20036; telephone (202) 833-9339; fax (202) 833-9434; web site http://www.rtca.org.

SUPPLEMENTARY INFORMATION: Pursuant to section 10(a) (2) of the Federal Advisory Committee Act (Pub.L. 92-463, 5 U.S.C. appendix 2), notice is hereby given for a Special Committee 188 meeting. The agenda will include:

July 10, 2001

• Opening Plenary Session (Chairman's Introductory Remarks, Approval of Previous Meeting Summary, Review of Agenda and Work Plan)

• Working Group 1, Review of High Frequency Data Link (HFDL) Minimum Aviation System Performance Standard (MASPS) Status and Draft Report

• Closing Plenary Session (Review Actions Items, Make Assignments, Other Business, Date, Place and Time of Next Meeting, Adjourn)

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on June 21, 2001.
Janice L. Peters,
FAA Special Assistant, RTCA Advisory Committee.

[FR Doc. 01-16477 Filed 6-29-01; 8:45 am]

BILLING CODE 4910-13-M